FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 017564N.

Name: Ace Cargo, Inc.

Address: 12534 Raymer Street, North Hollywood, CA 91605.

Date Revoked: October 1, 2005.

Reason: Failed to maintain a valid bond.

License Number: 000479F.

Name: Barian Shipping Company Inc.

Address: 910 Railroad Avenue, Woodmere, NY 11598.

Date Revoked: October 1, 2005.

Reason: Failed to maintain a valid bond.

License Number: 018155NF.

Name: Coastar Freight Services, Inc.

Address: 10370 Slusher Drive, #2, Santa Fe Springs, CA 90670.

Date Revoked: September 25, 2005.

Reason: Failed to maintain valid bonds.

License Number: 012101N.

Name: Global-Link International Inc.

Address: 1555 Mittel Drive, Suite F, Wood Dale, IL 60191.

Date Revoked: October 1, 2005.

Reason: Failed to maintain a valid bond.

License Number: 004286N.

Name: Joseph Esposito dba Mondo Comm International Ltd.

Address: 17 Main Street, Bloomingdale, NJ 07403.

Date Revoked: September 25, 2005.

Reason: Failed to maintain a valid bond.

License Number: 019429F.

Name: L.O. Trading Corporation

Address: 10800 NW. 21st Street, Suite 250, Miami, FL 33172.

Date Revoked: October 31, 2005.

Reason: Surrendered license voluntarily.

License Number: 011247N.

Name: Marine Express, Inc.

Address: P.O. Box 6448, Mayaguez, PR 00681-6448.

Date Revoked: October 6, 2005.

Reason: Surrendered license voluntarily.

License Number: 004606NF.

Name: N.I. Logistics American Corporation.

Address: 99 West Hawthorne Avenue, Suite 620, Valley Street, NY 11580.

Date Revoked: October 17, 2005.

Reason: Surrendered license voluntarily.

License Number: 002951F.

Name: O'Neill & Whitaker, Inc.

Address: 1809 Baltimore Avenue, Kansas City, MO 64108.

Date Revoked: October 24, 2005.

Reason: Surrendered license voluntarily.

License Number: 013735N.

Name: Sonictrans System Inc.

Address: 167-43 148th Avenue, Jamaica, NY 11434.

Date Revoked: October 1, 2005.

Reason: Failed to maintain a valid bond.

License Number: 004060F.

Name: Willson International Inc.

Address: 250 Cooper Avenue, Suite 102, Tonwanda, NY 14150.

Date Revoked: October 18, 2005.

Reason: Surrendered license voluntarily.

License Number: 004375NF.

Name: World-Wide Express, Inc.

Address: 8811 E. Garvey Avenue, Suite #205, Rosemead, CA 91770.

Date Revoked: September 15, 2005.

Reason: Surrendered license voluntarily.

Dated: November 10, 2005.
Sandra L. Kusumoto,
Director, Bureau of Certification and Licensing.

[FR Doc. 05-22747 Filed 11-15-05; 8:45 am]

BILLING CODE 6730-01-P